FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017472N.

Name: ARC Global Logistics, Inc.

Address: 1552B NW. 82nd Avenue, Miami, FL 33126.

Date Revoked: February 9, 2004.

Reason: Failed to maintain a valid bond.

License Number: 017120N.

Name: Celestial International Freight, Inc.

Address: 2300 E. Higgins Road, Suite 224, Elk Grove Village, IL 60007.

Date Revoked: February 27, 2004.

Reason: Failed to maintain a valid bond.

License Number: 011564N.

Name: Inter-Shipping Chartering Co.

Address: 8284 NW. 66th Street, Miami, FL 33166.

Date Revoked: February 20, 2004.

Reason: Failed to maintain a valid bond.

License Number: 003093F.

Name: Noboru Tom Nakamura dba TN Forwarding

Address: 2627 28th Street, Santa Monica, CA 90405

Date Revoked: February 26, 2004.

Reason: Failed to maintain a valid bond.

License Number: 016083F.

Name: Palmetto Freight Forwarding Corp.

Address: 2577 West 80th Street, Hialeah, FL 33016.

Date Revoked: February 25, 2004.

Reason: Failed to maintain a valid bond.

License Number: 003511F.

Name: Respond Cargo Services Corporation.

Address: 15711 West Hardy Road, Suite 3, Houston, TX 77060.

Date Revoked: February 25, 2004.

Reason: Failed to maintain a valid bond.

License Number: 014454N.

Name: Seoul Express Line, Inc.

Address: 283 E. Redondo Beach Blvd., Gardena, CA 90248.

Date Revoked: February 19, 2004.

Reason: Failed to maintain a valid bond.

License Number: 003896F.

Name: Sino AM Cargo, Inc.

Address: 1335 Evans Avenue, San Francisco, CA 94124.

Date Revoked: February 25, 2004.

Reason: Failed to maintain a valid bond.

Sandra L. Kusumoto,
Director, Bureau of Consumer Complaints and Licensing.

[FR Doc. 04-6041 Filed 3-16-04; 8:45 am]

BILLING CODE 6730-01-P